DEPARTMENT OF AGRICULTURE

Farm Service Agency

Request for Approval of a New Information Collection; Request for Producer Service Center Information Management System (SCIMS) Record Change

AGENCY: Farm Service Agency, USDA.

ACTION: Notice and request for comments.

SUMMARY: In accordance with the Paperwork Reduction Act of 1995, this notice announces the intent of the Farm Service Agency (FSA) to request approval for the information collection to be used in support of documenting critical producer data changes (customer name, current mailing address and tax identification number) in SCIMS. The collection of critical producer data will be used to update existing producer record data and document when and who initiates and changes the record in SCIMS.

DATES: Comments on this notice must be received on or before October 1, 2007 to be assured consideration.

FOR FURTHER INFORMATION CONTACT: Mike Sienkiewicz, Program Specialist, USDA, Farm Service Agency, Production, Emergencies, and Compliance Division, 1400 Independence Avenue, SW., Stop 0517, Washington, DC 20250-0517; Telephone (202) 720-8959; Electronic mail: mike.sienkiewicz@wdc.usda.gov.

SUPPLEMENTARY INFORMATION: Title: Request for Producer Service Center Information Management System (SCIMS) Record Change.

OMB Control Number: 0560-NEW.

Type of Request: Approval of a New Information Collection.

Abstract: The information collection is necessary to effectively monitor critical producer data changes made in the SCIMS database. The necessity to monitor critical producer data changes in the SCIMS database is a direct result of the OMB Circular A-123 Remediation/Corrective Action Plan for County Office Operations. The FSA A-123 team was established and reviewed and documented key controls related to all material accounts. Included in this analysis was a review of the SCIMS database.

Estimate of Annual Respondent Burden: Public reporting burden for this collection of information is estimated to average .17 hours per response.

Respondents: FSA, NRCS, and RD customers currently residing in SCIMS database.

Estimated Number of Respondents: 45,000.

Estimated Number of Responses per Respondents: 1.15.

Estimated Total Annual Burden on Respondents: 8,798.

Comments are invited on the following: (a) Whether the collection of information is necessary for the proper performance of the functions of the agency, including whether the information will have practical utility; (b) the accuracy of the agency's estimate of burden, including the validity of the methodology and assumptions used; (c) ways to enhance the quality, utility and clarity of the information to be collected; and (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Mike Sienkiewicz, Program Specialist, USDA, Farm Service Agency, Production, Emergencies, and Compliance Division, 1400 Independence Avenue, SW., STOP 0517, Washington, DC 20250-0517.

Comments will be summarized and included in the request for Office of Management and Budget approval of the information collection. All comments will also become a matter of public record.

Signed in Washington, DC on July 25, 2007.
Glen L. Keppy,
Acting Administrator, Farm Service Agency.

[FR Doc. E7-14816 Filed 7-31-07; 8:45 am]

BILLING CODE 3410-05-P